DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR described the nature of the information collection and its expected burden. A Federal Register Notice with a 60-day comment period soliciting public comments on the following information collection was published on November 15, 2013 (Federal Register/Vol. 78, No. 221/pp. 68902-68903).

DATES: Submit comments to the Office of Management and Budget (OMB) on or before June 2, 2014.

FOR FURTHER INFORMATION CONTACT: Dr. Kathy Sifrit, Contracting Officer's Technical Representative, Office of Behavioral Safety Research (NTI-132), National Highway Traffic Safety Administration, 1200 New Jersey Avenue SE., W46-472, Washington, DC 20590. Dr. Sifrit's phone number is (202) 366-0868 and her email address is kathy.sifrit@dot.gov.

SUPPLEMENTARY INFORMATION:

OMB Control Number: 2127—New.

Title: Physical Fitness and Driving Performance.

Form No.: NHTSA Form 1227.

Type of Review: Regular.

Respondents: Drivers age 70 and older who have responded to a solicitation for participation in a study of aging, physical fitness, and driving safety and have initiated a phone call expressing their interest in study participation.

Estimated Number of Respondents: An estimated that 270 respondents who contact researchers in response to descriptive solicitations.

Estimated Time per Response: The estimated time to respond to questions in the telephone conversations is 15 minutes for each conversation with a respondent.

Total Estimated Annual Burden Hours: 67.5 hours.

Frequency of Collection: The questions will be presented a single time.

Abstract: Older adults comprise an increasing proportion of the (driving) population and there is concern about the consequences of declining physical abilities such as strength, flexibility, and range of motion on the safe operation of motor vehicles. Previous research indicates that gains in physical fitness improve a number of abilities important for safe driving. NHTSA needs to learn more about these relationships between fitness and driving performance to support the development of recommendations and educational materials aimed at improving older driver safety. The objective in this project is to assess the effect(s) of physical activity and physical fitness training on the driving performance of adults 70 and older. The National Highway Traffic Safety Administration (NHTSA) proposes to collect information from licensed older drivers about their driving habits and levels of physical activity in order to determine whether they are eligible to participate in a study of the effects of physical activity on driving performance. Drivers will volunteer for the study by responding to flyers posted at a community center, and/or announcements in newsletters and on community listserves, and/or sign-ups at a weekly farmer's market and other local events. Interested older drivers will contact a designated research team member through a toll-free number. Researchers will ask drivers a brief (<15 minutes) series of questions to determine eligibility to participate in the study, then describe the proposed study to respondents who qualify. Each driver who meets study inclusion criteria will then be asked if he or she wishes to participate. If yes, a project assistant will ask for a description of the car in order to identify it and install a data collection system that will collect driving data necessary for the study. The questions will allow research staff to ensure that prospective participants meet study inclusion criteria, are able and willing to wear fitness monitors to measure physical activity levels, and facilitate installing data collection instruments in each participant's vehicle. Analyses of these fitness/activity level and driving data will provide information about whether people age 70 and older who participate in regular physical activity perform better in a driving evaluation and/or drive more than do healthy, sedentary drivers of a similar age; whether particular physical training activities relate to improved functioning in specific driving tasks; and the extent to which driving performance and/or exposure of sedentary older adults will improve, following participation in physical activity. NHTSA will use the information to inform recommendations to the public regarding how improved physical fitness can result in better driving performance for the purpose of reducing injuries and loss of life on the highway.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC, on April 28, 2014.
Jeffrey Michael,
Associate Administrator, Research and Program Development.

[FR Doc. 2014-09945 Filed 4-30-14; 8:45 am]

BILLING CODE P